DEPARTMENT OF ENERGY

Federal Energy Regulatory Commission

[Docket No. CP07-208-000]

Rockies Express Pipeline LLC; Notice of Technical Conference

December 11, 2007.

On December 19, 2007, staff of the Office of Energy Projects (OEP) will hold a technical conference concerning issues raised by Rockies Express Pipeline LLC (Rockies Express) with two environmental recommendations in the draft Environmental Impact Statement for the REX East Project. In particular, the two environmental recommendations deal with the co-location of the proposed Rockies Express right-of-way with the existing Panhandle Eastern Pipeline Company right-of-way and the centering of the Rockies Express pipeline within the permanent right-of-way.

The technical conference will be held on Wednesday, December 19 at 10 a.m. (EST), in Room 3M-3 at the Commission Headquarters in Washington, DC.

Commission conferences are accessible under section 508 of the Rehabilitation Act of 1973. For accessibility accommodations please send an e-mail to accessibility@ferc.gov or call toll free 1-866-208-3372 (voice) or 202-208-8659 (TTY), or send a fax to 202-208-2106 with the required accommodations.

Information concerning any changes to the above may be obtained from the Commission's Office of External Affairs at (202) 502-8004 or toll free at 1-866-208-FERC (208-3372).

Kimberly D. Bose,
Secretary.

[FR Doc. E7-24421 Filed 12-17-07; 8:45 am]

BILLING CODE 6717-01-P